DEPARTMENT OF TRANSPORTATION

Federal Aviation Administration

14 CFR Part 71

[Docket No. FAA-2003-15299; Airspace Docket No. 03-AWP-9]

Modification of Class E Airspace; Window Rock, AZ

AGENCY: Federal Aviation Administration (FAA), DOT.

ACTION: Direct final rule; confirmation of effective date.

SUMMARY: This confirms the effective date of the direct final rule that modifies Class E airspace at Window Rock, AZ.

EFFECTIVE DATE: 0901 UTC, September 4, 2003.

FOR FURTHER INFORMATION CONTACT: Jeri Carson, Air Traffic Division, Airspace Branch, AWP-520, Federal Aviation Administration, 15000 Aviation Boulevard, Lawndale, California 90261, telephone (310) 725-6611.

SUPPLEMENTARY INFORMATION: The FAA published a direct final rule with request for comments (FR Document 03-15526) in the Federal Register on June 19, 2003 (68 FR 36743). The FAA uses the direct final rulemaking procedure for a non-controversial rule where the FAA believes that there will be no adverse public comment. This direct final rule advised the public that no adverse comments were anticipated, and that unless a written adverse comment, or a written notice of intent to submit such an adverse comment, were received within the comment period, the regulation would become effective on September 4, 2003. No adverse comments were received, and thus this action confirms that the direct final rule will be effective on that date.

Issued in Los Angeles, California.
John Clancy,
Manager, Air Traffic Division, Western-Pacific Region.

[FR Doc. 03-21457] Filed 8-20-03; 8:45 am]

BILLING CODE 4910-13-M